DEPARTMENT OF JUSTICE

Notice of Lodging of Proposed Consent Decree Under the Comprehensive Environmental Response, Compensation and Liability Act

On March 13, 2017, the Department of Justice lodged a proposed Consent Decree with the United States District Court for the Western District of Virginia in the lawsuit entitled United States v. Michael Cosola, Civil Action No. 1:17-CV-00007.

The proposed Consent Decree will resolve claims alleged under the Comprehensive Environmental Response, Compensation and Liability Act (“CERCLA”) against Michael Cosola for costs incurred in responding to releases and threatened releases of hazardous substances at the Twin Cities Iron and Metal Site (the “Site”) located in Bristol, Virginia. Michael Cosola is the current owner of Site property. The proposed Consent Decree imposes certain access and use restrictions at the Site, requires Mr. Cosola to perform a Phase II Site Assessment prior to disturbing soil on the property, and requires Mr. Cosola to record an environmental covenant on the Site property that will protect the remedy and run with the property in perpetuity.

The publication of this notice opens a period for public comment on the Consent Decree. Comments should be addressed to the Assistant Attorney General, Environment and Natural Resources Division, and should refer to United States v. Michael Cosola, Civil Action No. 1:17-CV-00007, D.J. Ref. No. 90-11-3-10712/2. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $24.75 (25 cents per page reproduction cost) payable to the United States Treasury. For a paper copy without the exhibits and signature pages, the cost is $5.50.

Robert Brook,
Assistant Section Chief, Environmental Enforcement Section, Environment and Natural Resources Division.

[FR Doc. 2017-05322 Filed 3-16-17; 8:45 am]

BILLING CODE 4410-15-P